COMMODITY FUTURES TRADING COMMISSION

Energy and Environmental Markets Advisory Committee; Request for Nominations

AGENCY: Commodity Futures Trading Commission.

ACTION: Notice.

SUMMARY: The Commodity Futures Trading Commission (CFTC or Commission) is requesting nominations for Associate Members of the Energy and Environmental Markets Advisory Committee (EEMAC or Committee) and also inviting the submission of potential topics for discussion at future Committee meetings. The EEMAC is an advisory committee established by the Dodd-Frank Wall Street Reform and Consumer Protection Act.

DATES: The deadline for the submission of nominations and topics is July 13, 2022.

ADDRESSES: Nominations and topics for discussion at future EEMAC meetings should be emailed to EEMAC_Submissions@cftc.gov or sent by hand delivery or courier to Chris Lucas, Chief of Staff to Commissioner Summer K. Mersinger, Commodity Futures Trading Commission, Three Lafayette Centre, 1155 21st Street NW, Washington, DC 20581. Please use the title “Energy and Environmental Markets Advisory Committee” for any nominations or topics you submit.

FOR FURTHER INFORMATION CONTACT: Lauren Fulks, EEMAC Secretary, (816) 960-7719 or email: lfulks@cftc.gov.

SUPPLEMENTARY INFORMATION: The EEMAC was established to conduct public meetings; submit reports and recommendations to the Commission; and otherwise serve as a vehicle for discussion and communication on matters of concern to exchanges, trading firms, end users, energy producers, and regulators regarding energy and environmental markets and their regulation by the Commission.

Pursuant to the EEMAC's authorizing statute, the EEMAC must have nine members. In addition, the EEMAC Charter requires that the Committee have approximately 9-20 Associate Members. The EEMAC currently has twelve Associate Members and Commissioner Summer K. Mersinger, the EEMAC's Sponsor, seeks additional Associate Members of the EEMAC.

Accordingly, the Commission invites the submission of nominations for EEMAC Associate Members who represent a wide diversity of opinions and a broad spectrum of interests related to the energy and environmental markets and their regulation by the Commission. To advise the Commission effectively, EEMAC Associate Members must have a high level of expertise and experience in the energy and/or environmental markets and the Commission's regulation of such markets, including from a historical perspective. To the extent practicable, the Commission will strive to select members reflecting wide ethnic, racial, gender, and age representation. All EEMAC Associate Members must be willing to participate in a public forum.

Each nomination submission should include relevant information about the proposed Associate Member, such as the individual's name, title, organizational affiliation and address, email address and telephone number, as well as information that supports the individual's qualifications to serve as an Associate Member of the EEMAC. The submission should also include the name, email address, and telephone number of the person nominating the proposed Associate Member. Self-nominations are acceptable.

Submission of a nomination is not a guarantee of selection as an Associate Member of the EEMAC. As noted in the EEMAC's Charter, the CFTC identifies Associate Members of the EEMAC through a variety of methods. Such methods may include public requests for nominations for membership; recommendations from existing advisory committee members; consultations with knowledgeable persons outside the CFTC (industry, consumer groups, other state or federal government agencies, academia, etc.); requests to be represented received from individuals and organizations; and Commissioners' and CFTC staff's professional knowledge of those experienced in the energy and environmental markets. The office of the Commissioner primarily responsible for the EEMAC plays a primary, but not exclusive, role in this process and makes recommendations regarding membership to the Commission. The Commission, by vote, authorizes Associate Members to serve on the EEMAC.

Associate Members may be appointed as representatives, special government employees, or regular government employees. Associate Members serve at the pleasure of the Commission, and may be appointed to serve for one, two, or three-year terms. As required by the EEMAC Charter, Associate Members provide their reports and recommendations directly to the EEMAC and not the Commission. Associate Members do not have the right to vote on matters before the EEMAC and may not sign or otherwise formally approve reports or recommendations made by the EEMAC to the Commission. Associate Members do not receive compensation for their services, and are not reimbursed for travel and per diem expenses. The EEMAC meets at such intervals as are necessary to carry out its functions and must meet at least two times per year. Associate Members are expected to provide their advice and recommendations to EEMAC members during these meetings.

In addition, the Commission invites submissions from the public regarding the topics on which EEMAC should focus. Such topics should:

(a) Reflect matters of concern to exchanges, trading firms, end users, energy producers, and regulators regarding energy and environmental markets and their regulation by the Commission; and/or

(b) Are important to otherwise assist the Commission in identifying and understanding the impact and implications of the evolving market structure of the energy, environmental, and other related markets.

Each topic submission should include the commenter's name and email or mailing address.

(Authority: 5 U.S.C. App. II)

Dated: June 23, 2022.
Robert Sidman,
Deputy Secretary of the Commission.

[FR Doc. 2022-13824 Filed 6-28-22; 8:45 am]

BILLING CODE 6351-01-P